DEPARTMENT OF ENERGY

Federal Energy Regulatory Commission

[Project No. 2290-122]

Southern California Edison; Notice of Environmental Site Review

On August 1, 2023, at 1:00 p.m. (Pacific Standard Time), Commission staff and Southern California Edison (SCE), the licensee for the Kern River No. 3 Hydroelectric Project No. 2290 (project), will conduct an environmental site review of the project. All interested individuals, agencies, Tribes, and non-governmental organizations are invited to attend.

The site review will include the project powerhouse, Corral Creek Diversion, Salmon Creek Diversion, and commence at Fairview Dam. Please note that all participants are responsible for their own transportation to/from the project and during the site review tour. If you are interested in attending, or have questions regarding the site review, please RSVP David Moore with SCE at David.Moore@sce.com or (626) 302-9494 on or before July 28, 2023.

Participants will meet at the put-in/take-out recreation site just downstream of the project's powerhouse located at: 15171 Sierra Way, Kernville, CA 93238. Participants should arrive early for coordination purposes and to begin the tour promptly at 1:00 p.m. Additionally, participants must wear sturdy, closed-toe shoes, or boots.

Dated: June 29, 2023.
Debbie-Anne A. Reese,
Deputy Secretary.

[FR Doc. 2023-14259 Filed 7-5-23; 8:45 am]

BILLING CODE 6717-01-P